NATIONAL SCIENCE FOUNDATION

Sunshine Act Meetings

The National Science Board's (NSB) Committee on Oversight hereby gives notice of the scheduling of a videoconference meeting for the transaction of National Science Board business pursuant to the National Science Foundation Act and the Government in the Sunshine Act.

TIME AND DATE: Monday, November 28, 2022, from 2:30-3:00 p.m. EST.

PLACE: This meeting will be held by videoconference through the National Science Foundation.

STATUS: Open.

MATTERS TO BE CONSIDERED: The agenda of the meeting is: Committee Chair's opening remarks; Office of the Inspector General (OIG) update; and Chief Financial Officer (CFO) update.

CONTACT PERSON FOR MORE INFORMATION: Point of contact for this meeting is: (Chris Blair, cblair@nsf.gov), 703/292-7000. Members of the public can observe this meeting through a You Tube livestream. Please consult the NSB website for the link.

Christopher Blair,
Executive Assistant to the National Science Board Office.

[FR Doc. 2022-25645 Filed 11-18-22; 4:15 pm]

BILLING CODE 7555-01-P